DEPARTMENT OF HOMELAND SECURITY

Bureau of Customs and Border Protection

[CBP Decision 05-20]

Recordation of Trade Name: “Precision Instrument Manifolds”

AGENCY: Department of Home Security, U.S. Customs and Border Protection (CPB), Office of Regulations & Rulings, Intellectual Property Rights Branch.

ACTION: Notice of recordation.

SUMMARY: On December 15, 2004, a notice of application for the recordation under section 42 of the Act of July 5, 1946, as amended (15 U.S.C. 1124), of the trade name “Precision Instrument Manifolds”, was published in the Federal Register (69 FR 75078 and 75079). The notice advised that before final action was taken on the application, consideration would be given to any relevant data, views, or arguments submitted in writing by any person in opposition to the recordation and received not later than February 14, 2005. No responses were received in opposition to the notice. Accordingly, as provided in section 133.14, Customs Regulations (19 CFR 133.14), the name “Precision Instrument Manifolds,” is recorded as the trade name used by Dynamic Controls & Sensors, Inc., a corporation organized under the laws of Texas, located at P.O. Box 5009 Kingwood, Texas.

The trade name is used in connection with valves.

EFFECTIVE DATE: May 23, 2005.

FOR FURTHER INFORMATION CONTACT: Delois P. Johnson, Paralegal, Intellectual Property Rights Branch, 1300 Pennsylvania Avenue, NW., (Mint Annex), Washington, DC 20229 (202 572-8703).

Dated: May 17, 2005.
George Frederick McCray,
Chief, Intellectual Property Rights Branch.

[FR Doc. 05-10185 Filed 5-20-05; 8:45 am]

BILLING CODE 4820-02-P